DEPARTMENT OF JUSTICE

Notice of Lodging of Proposed Consent Decree Under the Clean Water Act

On April 4, 2013, the Department of Justice lodged a proposed Consent Decree with the United States District Court for the District of New Hampshire in the lawsuit entitled United States v. Torromeo Industries, Inc., Civil Action No. 1:10-cv-509-JL. Torromeo Industries, Inc., is a Massachusetts corporation with a principal place of business at 33 Old Ferry Road, Methuen, Massachusetts. Torromeo operates a sand, gravel, crushed stone mining, and redi-mix concrete operation at 18 Dorre Road, Kingston, New Hampshire (“the Facility”).

The United States filed the underlying action against Torromeo Industries, Inc., pursuant to Sections 309(b) and (d) of the Clean Water Act (“CWA” or “Act”), 33 U.S.C. 1319(b) and (d). The United States sought civil penalties and injunctive relief for violations of Sections 301, 308, and 402 of the CWA, 33 U.S.C. 1311, 1318, and 1342, and applicable implementing regulations relating to Torromeo's discharge of process water and storm water to the waters of the United States in the course of its operations at the Kingston, NH facility.

In the proposed Consent Decree, Torromeo Industries, Inc., agrees to eliminate all process water discharges from the Facility except as specifically authorized by a National Pollutant Discharge Elimination System (“NPDES”) permit.

With respect to storm water runoff, Torromeo will complete and submit to EPA an Initial Comprehensive Facility Compliance Evaluation (“ICFCE”) for each Construction Materials Facility located in New England that it owns or operates, or which it subsequently acquires, which shall address all elements specified in the Consent Decree (“CD”). Torromeo shall also establish a Storm Water Pollution Protection Plan (“SWPPP”) addressing all elements specified in the CD.

Torromeo will implement a Supplemental Environmental Project (“SEP”), the Castleton Function Hall Pervious Concrete Project, as specified in the CD.

Torromeo shall pay a civil penalty in the amount of $135,000.

The publication of this notice opens a period for public comment on the proposed Consent Decree. Comments should be addressed to the Assistant Attorney General, Environment and Natural Resources Division, and should refer to United States v. Torromeo Industries, Inc., Civil Action No. 1:10-cv-509-JL; DOJ Ref. No. 90-5-1-1-10014. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $15.00 (25 cents per page reproduction cost) payable to the United States Treasury.

Maureen M. Katz,
Assistant Section Chief, Environmental Enforcement Section, Environment and Natural Resources Division.

[FR Doc. 2013-09521 Filed 4-22-13; 8:45 am]

BILLING CODE 4410-CW-P